DEPARTMENT OF THE INTERIOR

Bureau of Land Management

[AZ-020-1430-ET; AZA-13014]

Public Land Order No. 7570; Partial Revocation of Secretarial Order Dated July 2, 1902, Arizona

AGENCY: Bureau of Land Management, Interior.

ACTION: Public Land Order.

SUMMARY: This order partially revokes a Secretarial Order dated July 2, 1902, insofar as it affects approximately 159 acres of land withdrawn for the Bureau of Reclamation's Salt River Project. This order makes the land available for conveyance under the Recreation and Public Purposes Act.

EFFECTIVE DATE: June 9, 2003.

FOR FURTHER INFORMATION CONTACT: Jim Andersen, BLM Phoenix Field Office, 21605 North 7th Ave., Phoenix, AZ 85027, 623-580-5570.

SUPPLEMENTARY INFORMATION: The land is no longer needed for reclamation purposes and the Bureau of Reclamation concurs with the partial revocation.

Order

By virtue of the authority vested in the Secretary of the Interior by section 204 of the Federal Land Policy and Management Act of 1976, 43 U.S.C. 1714 (1994), it is ordered as follows:

1. The Secretarial Order dated July 2, 1902, which withdrew land for the Bureau of Reclamation's Salt River Project, is hereby revoked insofar as it affects the following described land:

Gila and Salt River Meridian

T. 1 N., R. 2 E.,

Sec. 30, lot 3, NE¼SW¼, and N½SE¼.

The area described contains approximately 159 acres in Maricopa County.

2. The land described in Paragraph 1 is hereby made available for conveyance under the Recreation and Public Purposes Act, as amended, 43 U.S.C. 869 (1994).

Dated: May 21, 2003.
Rebecca W. Watson,
Assistant Secretary, Land and Minerals Management.

[FR Doc. 03-14455 Filed 6-6-03; 8:45 am]

BILLING CODE 4310-MN-P